DEPARTMENT OF HOMELAND SECURITY

Federal Emergency Management Agency

[Docket ID FEMA-2011-0027; OMB No. 1660-0107]

Agency Information Collection Activities: Submission for OMB Review; Comment Request, Public Assistance Customer Satisfaction Survey

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before February 13, 2012.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or email address FEMA-Information-Collections-Management@dhs.gov.

SUPPLEMENTARY INFORMATION:

Collection of Information

Title: Public Assistance Customer Satisfaction Survey.

Type of information collection: Revision of a currently approved information collection.

OMB Number: 1660-0107.

Form Titles and Numbers: FEMA Form 519-0-1 T, Public Assistance Customer Satisfaction Survey (Telephone); FEMA Form 519-0-1 INT, Public Assistance Customer Satisfaction Survey (Web); FEMA Form 519-0-1, Public Assistance Customer Satisfaction Survey (Fill-able).

Abstract: This collection of information enables the Agency to garner customer and stakeholder feedback in an efficient, timely manner, in accordance with our commitment to improving service delivery. The information collected from customers and stakeholders will help ensure that users have an effective, efficient, and satisfying experience with the Agency's programs. This feedback will provide insights into customer or stakeholder perceptions, experiences and expectations, provide an early warning of issues with service, or focus attention on areas where communication, training or changes in operations might improve delivery of products or services. These collections will allow for ongoing, collaborative and actionable communications between the Agency and its customers and stakeholders. It will also allow feedback to contribute directly to the improvement of program management.

Affected Public: Not-for-profit institutions, State, Local, and Tribal Governments.

Estimated Number of Respondents: 10,740.

Frequency of Response: Once.

Estimated Average Hour Burden per Respondent: .34 burden hours.

Estimated Total Annual Burden Hours: 3,695 burden hours.

Estimated Cost: The estimated annual cost to respondents for the hour burden is $131,394.76. There are no annual costs to respondents operations and maintenance costs for technical services. There are no annual start-up or capital costs. The total annual non-labor cost is $7,344. The cost to the Federal government is $828,407.59.

John G. Jenkins, Jr.,
Director, Records Management Division, Mission Support Bureau, Federal Emergency Management Agency, Department of Homeland Security.

[FR Doc. 2012-483 Filed 1-11-12; 8:45 am]

BILLING CODE 9111-23-P